DEPARTMENT OF THE INTERIOR

National Park Service

[NPS-SERO-GUIS-16740; PPSESEROC3, PMP00UP05.YP0000]

Record of Decision for the General Management Plan: Gulf Islands National Seashore, Florida and Mississippi

AGENCY: National Park Service, Interior.

ACTION: Notice of availability.

SUMMARY: The National Park Service (NPS) announces the availability of the Record of Decision (ROD) for the General Management Plan (GMP) for Gulf Islands National Seashore (National Seashore). On September 11, 2014, the Regional Director, Southeast Region, approved the ROD for the project.

FOR FURTHER INFORMATION CONTACT: Superintendent Dan Brown, Gulf Islands National Seashore, 1801 Gulf Breeze Parkway, Gulf Breeze, FL 32563; or via telephone at (850) 934-2600.

SUPPLEMENTARY INFORMATION: The NPS evaluated four alternatives for managing use and development of the national seashore in the GMP Final Environmental Impact Statement:

Alternative 1—no action.

Alternative 2—The National Seashore would be managed to adapt to the wild and dynamic processes of the northern Gulf Coast while providing seashore recreational and educational opportunities. The level of infrastructure to support visitor services on barrier island areas would be adapted or removed as the environment changes over time.

Alternative 3 (NPS preferred alternative)—the National Seashore would be managed as an outdoor classroom for exploring the natural and human history of the northern Gulf Coast while providing seashore recreational opportunities. Collaboration and cooperation between a consortium of academia, visiting scientists, conservation organizations, and other agencies would be actively pursued to enhance resource management, stewardship, and understanding of the northern gulf coastal environment.

Alternative 4—The NPS would seek to collaborate and expand partnerships with educational and cultural institutions, nonprofit organizations, and commercial service providers to promote a greater array of National Seashore recreational and educational opportunities among a variety of coastal settings.

The ROD announces that the NPS has selected alternative 3, and the NPS will immediately begin to implement that alternative as the GMP. The GMP will guide the management of the national monument over the next 20+ years.

The responsible official for this FEIS/GMP is the Regional Director, NPS Southeast Region, 100 Alabama Street SW., 1924 Building, Atlanta, Georgia 30303.

Dated: December 22, 2014.
Sherri L. Fields,
Acting Regional Director, Southeast Region.

[FR Doc. 2015-00047 Filed 1-7-15; 8:45 am]

BILLING CODE 4310-JD-P